DEPARTMENT OF LABOR

Occupational Safety and Health Administration

[Docket No. ICR-1218-0151(2001)]

Cranes and Derricks Standard for Construction: Posting Weight and Load Capacity of Personnel Platforms; Extension of the Office of Management of Budget's (OMB) Approval of Information-Collection (Paperwork) Requirements

AGENCY: Occupational Safety and Health Administration (OSHA), Labor.

ACTION: Notice of an opportunity for public comment.

SUMMARY: OSHA solicits public comment concerning its request to extend OMB approval of the information-collection requirements specified by paragraph (g)(4)(ii)(I) of the Cranes and Derricks Standard for Construction (29 CFR 1926.550). This paragraph requires employers to post a plate or other permanent marking that indicates the weight of a personnel-hoisting platform and its rated-load capacity or maximum intended load.

DATES: Submit written comments on or before September 10, 2001.

ADDRESSES: Submit written comments to the Docket Office, Docket No. ICR-1218-0151(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, NW., Washington, DC 20210; telephone (202) 693-1953. A copy of the Agency's Information-Collection Request (ICR) supporting the need for the information collections specified by paragraph (g)(4)(ii)(I) of the Cranes and Derricks Standard for Construction (§ 1926.550) is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95)(44 U.S.C. 3506(c)(2)(A)). This program ensures that information is in the desired format, reporting burden (time and cost) is minimal, collection instruments are understandable, and OSHA's estimate of the information-collection burden is correct.

Paragraph (g)(4)(ii)(I) of the Cranes and Derricks Standard for Construction (§ 1926.550) requires employers to post conspicuously with a plate or other permanent marking the weight and rated load capacity or maximum intended load of each platform used to raise and lower employees to a worksite using a crane or derrick. This requirement helps employers to avoid exceeding the lifting capacity of such platforms and the cranes or derrick being used to lift the platforms. Therefore, this requirement can prevent the platform, crane, or derrick from collapsing and causing serious injury or death to employees on or below the platform.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting to extend OMB's previous approval of the recordkeeping (paperwork) requirement specified in paragraph (g)(4)(ii)(I) of the Cranes and Derricks Standard for Construction (§ 1926.550). the Agency will summarize the comments submitted in response to this notice, and will include this summary in its request to OMB to extend the approval of this information-collection requirement.

Type of Review: Extension of currently approved information-collection requirements.

Title: Cranes and Derricks Standard for Construction: Posting Weight and Load Capacity of Personnel Platforms.

OMB Number: 1218-0151.

Affected Public: Business or other for-profit; not-for-profit institutions; Federal government; State, local, or tribal governments.

Number of Respondents: 2,750 (platforms).

Frequency of Response: On occasion.

Average Time per Response: 5 minutes (.08 hour) to post or mark a platform.

Estimated Total Burden Hours: 229.

Estimated Cost (Operation and Maintenance): $0.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Dated: Signed at Washington, DC on July 3, 2001.
R. Davis Layne,
Acting Assistant Secretary of Labor.

[FR Doc. 01-17221 Filed 7-9-01; 8:45 am]

BILLING CODE 4510-26-M